DEPARTMENT OF THE INTERIOR

Bureau of Land Management

[LLCAD00000.L16100000.DS0000.LXSSB0010000]

Amended Notice of Intent To Clarify the Scope of Analysis of the Environmental Document and Proposed Plan Amendment in the West Mojave Planning Area, to the Motorized Vehicle Access Element of the California Desert Conservation Area Plan, Inyo, Kern, Los Angeles and San Bernardino Counties, CA

AGENCY: Bureau of Land Management, Interior.

ACTION: Notice.

SUMMARY: The Department of Interior, Bureau of Land Management (BLM) announces its intent to clarify the scope of the Notice of Intent to Prepare an Environmental Document and Proposed Plan Amendment for the West Mojave (WEMO) Plan, Motorized Vehicle Access Element, Inyo, Kern, Los Angeles and San Bernardino Counties, CA, which was published in the Federal Register on September 13, 2011 (76 FR 56466). By this notice, the BLM is announcing the beginning of a further, more focused scoping process to solicit public comments and identify issues related to the clarified scope of the West Mojave (WEMO) Route Network Project Environmental Impact Statement (EIS)/Plan Amendment as described under SUPPLEMENTARY INFORMATION below.

DATES: This notice initiates public scoping on the clarified scope of the WEMO Route Network Project EIS/plan amendment and concurrent travel management designation planning. Comments must be submitted in writing within 30 days from the publication date of this notice in the Federal Register. The BLM will provide additional opportunities for public participation as appropriate.

ADDRESSES: The public may submit comments on the modified scope of the analysis and related issues, by any of the following methods:

• Email: cawemopa@blm.gov.

• Web site: http://www.blm.gov/ca/st/en/fo/cdd/west_mojave_wemo.

• Fax: 951-697-5299.

• Mail: BLM California Desert District Office, 22835 Calle San Juan de Los Lagos, ATTN: West Mojave Route Network Project, Moreno Valley, CA 92553-9046

Documents relevant to this proposal may be examined at the California Desert District Office or Web site (address above), or the BLM's California State Office, 2800 Cottage Way, Sacramento, CA 95825.

FOR FURTHER INFORMATION CONTACT: Edythe Seehafer, telephone 760-252-6021; address Bureau of Land Management, Barstow Field Office, 2601 Barstow Road, Barstow, CA 92311; email cawemopa@blm.gov.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: In January 2011, the U.S. District Court for the Northern District of California partially remanded the 2006 WEMO Plan Amendment Record of Decision (ROD) to the BLM and directed the BLM to amend the California Desert Conservation Area (CDCA) Plan and reconsider route designation throughout the WEMO area, as well as other specified issues in the WEMO Plan (Center for Biological Diversity v. US Bureau of Land Management Order Re: Remedy (N.D. Cal. Jan 28, 2011)). By court order, the BLM must issue a revised decision by March 31, 2014. The September 13, 2011 Notice of Intent (NOI) invited comments on the proposed scope and content of the environmental document to address the court's issues related to the 2006 WEMO ROD.

The public scoping process for this action has been utilized to determine relevant issues, impacts, and possible alternatives that could influence the scope of the environmental analysis, and guide the entire process from plan decision-making to route designation review in order to comply with the court order. The BLM conducted two scoping meetings in Ridgecrest and Barstow, on September 27 and 29, 2011 respectively. The BLM asked for comments on the issues to be addressed, motor vehicle access amendment alternatives to be considered, decision criteria for route designation, the best approach to integrate recent BLM transportation management guidance into the document, and how to address both plan-level and implementation-level decisions. As a result of initial scoping, the BLM subsequently held eight working group meetings in February and March of 2012 to collect additional travel management input on issues related to planning and implementation for route designation in specific geographic subregions within the WEMO area.

The original NOI stated that the plan amendment would:

1. Update and amend the Motorized Vehicle Access Element of the CDCA Plan. The NOI requested input on those portions of the Element to be amended, including to reflect current management policy regarding access management. The plan amendment proposes to eliminate the “existing routes” language in the CDCA Plan. This language currently constrains the development of a travel network in the WEMO area.

2. Identify and analyze alternatives for amending the Motorized Vehicle Access Element of the CDCA Plan. The NOI indicated that subsequently, concurrently, or in a combination of both, additional environmental analysis would address current route designation within the WEMO sub-regional areas. This analysis would result in new decisions for each sub-regional area within the WEMO plan area that would either retain or modify, in whole or in part, current route designations.

3. Identify processes, decision criteria, and related issues for designating travel routes within sub-regional areas of the WEMO plan area. The NOI identified preliminary decision criteria and requested input on issues and concerns, and best science and technology to establish viable networks within each subarea.

Clarifications to the original NOI as a result of scoping include the following:

1. The appropriate analytical document for the plan amendment has been determined to be an EIS.

2. This plan amendment also proposes to modify Stopping/Parking/Camping guidelines and other potential area-wide impact minimization strategies in addition to “existing routes” language.

3. The BLM has determined that it would be in the best interest of public land management to evaluate concurrently the plan amendments and the activity planning that would adopt route designations and implementation strategies.

4. In response to the court order BLM will establish a consistent baseline for route designation.

5. Consistent with current guidance, the plan amendment proposes to adopt Travel Management Areas and broad goals for these areas to provide the basis for concurrent travel management activity plans.

6. The activity plans will designate specific travel routes and trails within the travel management areas as part of the site-specific implementation planning, and will include consideration of both public (casual use) and other access needs and opportunities on public lands.

7. This document will amend the CDCA Plan Motor Vehicle Access Element as it pertains to the West Mojave Planning area. Amendment and activity plan changes will update and augment the 2006 West Mojave Plan, through the replacement of Section 2.2.6, updates of Planning and Regulatory Framework Section 3.1, Affected Environment Sections 3.5, affected impact analyses, strategies provided in the activity plans, and elsewhere as appropriate.

8. The BLM generally identified issues of concern in the original Notice. The following post-2006 ROD issues also will be considered: New critical habitat, designation of the Old Spanish National Historic Trail, new wilderness areas, consideration of lands with wilderness characteristics, changes to access from major rights-of-way and other large plan amendment proposals and decisions, and the proposed transfer of management to the military of the Johnson Valley OHV Open Area. Several issues were specifically identified by the court which will be addressed in the document, including soils, unusual plant assemblages, riparian and water resources, cultural resources, grazing, air quality in open areas, cumulative effects, and mitigation. The BLM will evaluate identified issues to be addressed in the plan amendment, and will place them into one of three categories:

1. Issues to be resolved in the plan amendment and associated activity plans;

2. Issues to be resolved through policy or administrative action; or

3. Issues beyond the scope of this plan amendment.

The BLM will provide an explanation in the Scoping Report or the draft EIS as to why an issue was placed in category two or three. An updated inventory of lands with wilderness characteristics for public lands in the plan area will be completed for analysis in the EIS. The public is also encouraged to help identify any management questions and concerns that should be addressed in the clarified scope of the plan. The BLM will work collaboratively with interested parties to identify the management decisions that are best suited to local, regional, and national needs and concerns.

Before including your address, phone number, email address, or other personal identifying information in your comment, you should be aware that your entire comment—including your personal identifying information—may be made publicly available at any time. While you can ask us in your comment to withhold your personal identifying information from public review, we cannot guarantee that we will be able to do so.

Authority: 40 CFR 1501.7, 40 CFR 1506.6, 40 CFR 1506.10, 43 CFR 1610.2.

Thomas Pogacnik,
Deputy State Director.

[FR Doc. 2013-10374 Filed 5-1-13; 8:45 am]

BILLING CODE 4310-40-P